DEPARTMENT OF THE INTERIOR

Fish and Wildlife Service

Notice of Boundary Expansion, James Campbell National Wildlife Refuge, Oahu, HI

AGENCY: Fish and Wildlife Service, Interior.

ACTION: Notice.

SUMMARY: This notice advises the public that Congress has enacted the “James Campbell National Wildlife Refuge Expansion Act of 2005” (Act). The Act authorizes an expansion of the James Campbell National Wildlife Refuge's (Refuge) approved boundary by approximately 750 acres, resulting in a revised Refuge boundary encompassing approximately 1,100 acres. This notice is being furnished consistent with section 4(c)(2) of the Act.

ADDRESSES: A map depicting the expanded approved Refuge boundary and other information regarding the Refuge expansion is available on the Internet at http://www.fws.gov/pacific/planning/.

FOR FURTHER INFORMATION CONTACT: Sylvia R. Pelizza, Refuge Manager, Oahu National Wildlife Refuge Complex, 66-590 Kamehameha Highway, Room 2C, Haleiwa, HI 96712; phone (808) 637-6330; fax (808) 637-3578; or e-mail FW1PlanningComments@fws.gov.

SUPPLEMENTARY INFORMATION: Congress has enacted the “James Campbell National Wildlife Refuge Expansion Act of 2005” (Act), Public Law 109-225 (May 25, 2006). The Act was created in response to longstanding public concerns for protecting natural resources and open space on the Kahuku coastal plain on the Island of Oahu. The Act authorizes an expansion of the Refuge's approved boundary by approximately 750 acres. The expanded approved Refuge boundary includes land on the makai (ocean) side of Kamehameha Highway, including coastal dunes, but not public beaches. This authorization allows the Service to acquire land within the expanded approved Refuge boundary from the Estate of James Campbell. The lands will link the Refuge's two units—the Kii Unit and Punamano Unit—into a single unit of protected wildlife habitat totaling approximately 1,100 acres.

The Refuge expansion will protect the natural coastal wetlands and natural dune habitats of the Kahuku coastal area as part of the National Wildlife Refuge System. Management of the lands and waters will ensure a protected haven for all four species of endangered Hawaiian waterbirds and a variety of migratory shorebirds and waterfowl that use coastal wetlands and surrounding lands. Other native wildlife species that will benefit from the Refuge expansion include the native Hawaiian Owl, a native damselfly, and seabirds that formerly nested in the dune habitat. Protection of dune and strand vegetation near the coast will also conserve resting habitat for the endangered Hawaiian monk seal and nesting habitat for threatened green sea turtles that use Kahuku beaches. The expansion will also provide visitors increased opportunities to view native Hawaiian wildlife and some of the last remaining pristine coastal habitat on Oahu.

The Service is now authorized to proceed with acquiring land from the Estate of James Campbell, which may include providing lease extensions to long-term leaseholders within the expanded approved Refuge boundary.

Dated: August 28, 2006.
David J. Wesley,
Acting Regional Director, Region 1, Portland, Oregon.

[FR Doc. E6-14619 Filed 8-31-06; 8:45 am]

BILLING CODE 4310-55-P